DEPARTMENT OF THE TREASURY

Submission for OMB Review; Comment Request

August 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 25, 2000 to be assured of consideration.

Internal Revenue Service (IRS)

OMB Number: 1545-0687.

Form Number: IRS Form 990-T.

Type of Review: Revision.

Title: Exempt Organization Business Income Tax Return.

Description: Form 990-T is needed to compute the section 511 tax on unrelated business income of a charitable organization. IRS uses the information to enforce the tax.

Respondents: Not-for-profit institutions.

Estimated Number of Respondents/Recordkeepers: 37,103.

Estimated Burden Hours Per Respondent/Recordkeeper:

Recordkeeping | 61 hr., 42 min.
Learning about the law or the form | 24 hr., 48 min.
Preparing the form | 40 hr., 51 min.
Copying, assembling, and sending the form to the IRS | 4 hr., 1 min.

Frequency of response: Annually.

Estimated Total Reporting/Recordkeeping Burden: 4,873,851 hours.

OMB Number: 1545-0976.

Form Number: IRS Form 990-W.

Type of Review: Revision.

Title: Estimated Tax on Unrelated Business Taxable Income for Tax-Exempt Organizations.

Description: Form 990-W is used by tax-exempt trusts and tax-exempt corporations to figure estimated tax liability on unrelated business income and on investment income for private foundations and the amount of each installment payment. Form 990-W is a worksheet only. It is not required to be filed.

Respondents: Not-for-profit institutions, business or other for-profit.

Estimated Number of Respondents/Recordkeepers: 27,265.

Estimated Burden Hours Per Respondent/Recordkeeper:

Form | Recordkeeping | Learning about the law or the form | Preparing the form
Form 990--W | 10 hr., 2 min | 1 hr., 40 min | 1 hr., 55 min.
Form 990-W, Sch. A (Pt. I) | 11 hr., 14 min | 42 min | 54 min.
Form 990-W, Sch. A (Pt. II) | 23 hr., 26 min | 12 min | 35 min.
Form 990-W, Sch. A (Pt. III) | 5 hr., 15 min | 0 min | 5 min.

Frequency of response: Annually.

Estimated Total Reporting/Recordkeeping Burden: 388,015 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-21767 Filed 8-24-00; 8:45 am]

BILLING CODE 4830-01-P